DEPARTMENT OF ENERGY

Federal Energy Regulatory Commission

[Docket Nos. CP15-550-000; CP15-551-000; CP15-551-001]

Venture Global Calcasieu Pass, LLC; TransCameron Pipeline, LLC; Notice of Availability of the Final Environmental Impact Statement for the Proposed Calcasieu Pass Project

The staff of the Federal Energy Regulatory Commission (FERC or Commission) has prepared a final environmental impact statement (EIS) for the Calcasieu Pass Project, proposed by Venture Global Calcasieu Pass, LLC (Venture Global Calcasieu Pass) and TransCameron Pipeline, LLC (TransCameron Pipeline) in the above-referenced dockets. Venture Global Calcasieu Pass requests authorization to site, construct, and operate a natural gas liquefaction and storage facility, and marine export terminal in Cameron Parish, Louisiana. TransCameron Pipeline requests authorization to construct, install, and operate certain natural gas pipeline facilities also in Cameron Parish, Louisiana. The new liquefaction facilities would have a peak production capacity of 12 million metric tons of liquefied natural gas (LNG) per annum.

The final EIS assesses the potential environmental effects of construction and operation of the Calcasieu Pass Project in accordance with the requirements of the National Environmental Policy Act. The FERC staff concludes that approval of the proposed project, with the mitigation measures recommended in the EIS, would have some adverse environmental impact; however, all of these impacts would be reduced to less-than-significant levels.

The U.S. Army Corps of Engineers, U.S. Coast Guard, U.S. Department of Energy, U.S. Environmental Protection Agency, and U.S. Department of Transportation participated as cooperating agencies in the preparation of the EIS. Cooperating agencies have jurisdiction by law or special expertise with respect to resources potentially affected by a proposal and participate in the National Environmental Policy Act analysis. Although the cooperating agencies provided input on the conclusions and recommendations presented in the final EIS, the agencies will present their own conclusions and recommendations in their respective Records of Decision for the project.

The final EIS addresses the potential environmental effects of the construction and operation of the following project facilities:

• Nine integrated pre-cooled single mixed refrigerant (SMR) blocks;

• two full-containment aboveground LNG storage tanks, each with a usable capacity of approximately 200,000 cubic meters;

• a 1,500-foot by 3,000-foot turning basin adjacent to the Calcasieu River Ship Channel;

• two LNG berthing docks, each designed to handle carriers of 120,000 to 210,000 cubic meter cargo capacity;

• a 720 megawatt natural gas-fired combined cycle gas turbine electric generation facility;

• approximately 23.4 miles of 42-inch-diameter pipeline to bring feed gas from interconnections with ANR Pipeline Company, Texas Eastern Transmission, LP, and Bridgeline Holdings, LP to the terminal site;

• one meter station;

• three mainline valves; and

• one pig launcher at the meter station and one pig receiver at the gas gate station on the terminal site.

The Commission staff mailed a copy of the Notice of Availability to federal, state, and local government representatives and agencies; elected officials; environmental and public interest groups; Native American tribes; potentially affected landowners and other interested individuals and groups; and libraries in the project area. The final EIS is only available in electronic format. It may be viewed and downloaded from the FERC's website (www.ferc.gov), on the Environmental Documents page (https://www.ferc.gov/industries/gas/enviro/eis.asp). In addition, the final EIS may be accessed by using the eLibrary link on the FERC's website. Click on the eLibrary link (https://www.ferc.gov/docs-filing/elibrary.asp), click on General Search, and enter the docket number in the “Docket Number” field, excluding the last three digits (i.e. CP15-550 or CP15-551). Be sure you have selected an appropriate date range. For assistance, please contact FERC Online Support at FercOnlineSupport@ferc.gov or toll free at (866) 208-3676, or for TTY, contact (202) 502-8659.

Additional information about the project is available from the Commission's Office of External Affairs, at (866) 208-FERC, or on the FERC website (www.ferc.gov) using the eLibrary link. The eLibrary link also provides access to the texts of all formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to www.ferc.gov/docs-filing/esubscription.asp.

Dated: October 22, 2018.
Kimberly D. Bose,
Secretary.

[FR Doc. 2018-23603 Filed 10-29-18; 8:45 am]

BILLING CODE 6717-01-P